DEPARTMENT OF HOMELAND SECURITY

Coast Guard

33 CFR Part 117

[Docket No. USCG-2016-0018]

Drawbridge Operation Regulation; Des Allemands Bayou, Des Allemands, LA

AGENCY: Coast Guard, DHS.

ACTION: Notice of deviation from drawbridge regulation.

SUMMARY: The Coast Guard has issued a temporary deviation from the operating schedule that governs the Burlington Northern Santa Fe Railroad swing span drawbridge across Des Allemands Bayou, mile 14.0, at Des Allemands, St. Charles and Lafourche Parishes, Louisiana. The deviation is necessary to perform a swing span change out to the bridge. This deviation allows the bridge to remain closed-to-navigation continuously for 42 days.

DATES: This deviation is effective from February 21, 2016 through April 1, 2016.

ADDRESSES: The docket for this deviation, [USCG-2016-0018] is available at http://www.regulations.gov. Type the docket number in the “SEARCH” box and click “SEARCH”. Click on Open Docket Folder on the line associated with this deviation.

FOR FURTHER INFORMATION CONTACT: If you have questions on this temporary deviation, call or email Donna Gagliano, Bridge Specialist, Coast Guard; telephone 504-671-2128, email Donna.Gagliano@uscg.mil.

SUPPLEMENTARY INFORMATION: The Burlington Northern Santa Fe Railroad company requested a temporary deviation from the operating schedule for the swing span drawbridge across Des Allemands Bayou, mile 14.0, at Des Allemands, St. Charles and Lafourche Parishes, Louisiana. The deviation was requested to accommodate a necessary swing span replacement. The draw currently operates under 33 CFR 117.440(b).

For purposes of this deviation, the bridge will remain closed to navigation from 6 a.m. February 21, 2016 through 11:59 p.m. April 1, 2016. During this 42-day deviation, vessels will not be allowed to pass through the bridge. The bridge has a vertical clearance of three feet above mean high water in the closed-to-navigation position and unlimited in the open-to-navigation position. Navigation on the waterway consists of tugs with tows, fishing vessels and recreational craft.

The Coast Guard will also inform the users of the waterway through our Local and Broadcast Notices to Mariners of the change in operating schedule for the bridge. The bridge will not be able to open for emergencies and there is no immediate alternate route for vessels to pass.

In accordance with 33 CFR 117.35(e), the drawbridge must return to its regular operating schedule immediately at the end of the effective period of this temporary deviation. This deviation from the operating regulations is authorized under 33 CFR 117.35.

Dated: February 5, 2016.
David M. Frank,
Bridge Administrator, Eighth Coast Guard District.

[FR Doc. 2016-02778 Filed 2-10-16; 8:45 am]

BILLING CODE 9110-04-P